COUNCIL ON ENVIRONMENTAL QUALITY

National Environmental Policy Act Task Force; Meeting

AGENCY: Council on Environmental Quality.

ACTION: Notice of public meeting.

SUMMARY: The Council on Environmental Quality (CEQ) established a National Environmental Policy Act (NEPA) Task Force to review the current NEPA implementing practices and procedures in the following areas: Technology and information management; federal and intergovernmental collaboration; programmatic analyses and subsequent tiered documents; and adaptive management and monitoring. In addition, the NEPA Task Force reviewed other NEPA implementation issues such as the level of detail included in agencies' procedures and documentation for promulgating categorical exclusions; the structure and documentation of environmental assessments; and other implementation practices that would benefit federal agencies.

“The Task Force Report to the Council on Environmental Quality—Modernizing NEPA Implementation” was published and presented to CEQ on September 24, 2003. The Report contains recommendations designed to improve federal agency decision making by modernizing the NEPA process. To further the work of the NEPA Task Force, CEQ is holding a series of regional public roundtables to raise public awareness of the NEPA Task Force draft recommendations and discuss the recommendations and their implementation. The Southern Regional Roundtable will be held on December 11 and 12 at the historic Cadre Building, 149 Monroe Ave, Memphis, Tennessee. Information about the location is at http://www.cadrebuilding.com/. The Memphis Roundtable is co-hosted by the Southern Environmental Law Center, Duke Environmental Leadership Program at Duke University's Nicholas School of the Environment and Earth Sciences, and The Environmental Policy Information Center at Jacksonville State University. Representatives from important constituent groups that have worked on NEPA issues have been invited to participate in a discussion of the recommendations. Announcements of future roundtables will be published on the NEPA Task Force web site and in the Federal Register.

DATES: The southern regional public roundtable will be held on December 11 and 12. The December 11 session will begin at 9 a.m. and interested members of the public will have an opportunity to present their views at 3:30 p.m. following the roundtable discussion. That session will end in the evening after the publics' views have been presented. The session on December 12 will begin at 9 a.m. and interested members of the public will have an opportunity to present their views at 11 a.m. following the roundtable discussion.

ADDRESSES: Interested parties can review the Task Force report via the CEQ Web site at http://www.whitehouse.gov/ceq/ or the NEPA Task Force Web site at http://www.ceq.eh.doe.gov/nft/. If you would like a printed copy, please mail a request to The NEPA Task Force, 722 Jackson Place, NW., Washington, DC 20585, or contact Bill Perhach at (202) 395-0826 to request a copy.

Dated: September 25, 2003.
James L. Connaughton,
Chairman, Council on Environmental Quality.

[FR Doc. 03-29873 Filed 12-1-03; 8:45 am]

BILLING CODE 3125-01-M